DEPARTMENT OF HEALTH AND HUMAN SERVICES

National Institutes of Health

Submission for OMB Review; Comment Request: The National Survey of Physicians Attitudes Regarding the Care of Cancer Survivors (SPARCCS) (NCI)

SUMMARY: Under the provisions of Section 3507(a)(1)(D) of the Paperwork Reduction Act of 1995, the National Cancer Institute (NCI), the National Institutes of Health (NIH), has submitted to the Office of Management and Budget (OMB) a request to review and approve the information collection listed below. This proposed information collection was previously published in the Federal Register on July 31, 2008 (Vol. 73, No. 148, p. 44751) and allowed 60-days for public comment. There were no public comments received. The purpose of this notice is to allow an additional 30 days for public comment. The National Institutes of Health may not conduct or sponsor, and the respondent is not required to respond to, an information collection that has been extended, revised, or implemented on or after October 1, 1995, unless it displays a currently valid OMB control number.

Proposed Collection: Title: NIH-Survey of Physicians Attitudes Regarding the Care of Cancer Survivors (SPARCCS). Type of Information Collection Request: New. Need and Use of Information Collection: The purpose of this study is to identify the beliefs, knowledge, attitudes, and practices of primary care physicians and cancer specialists regarding the components described by the IOM. These data will inform the process of standardization of survivorship care practices; augment the data collected in other cancer survivorship studies and monitor the progress being made toward achieving NCI strategic goals of improving the quality of cancer care across the cancer control continuum. This questionnaire adheres to The Public Health Service Act, Section 412 (42 U.S.C. 285a-1) and Section 413 (42 U.S.C. 285a-2), which authorizes the Division of Cancer Control and Population Sciences of the National Cancer Institute (NCI) to establish and support programs for the detection, diagnosis, prevention and treatment of cancer; and to collect, identify, analyze and disseminate information on cancer research, diagnosis, prevention and treatment. Frequency of Response: Once. Affected Public: Individuals and Businesses. Type of Respondents: Primary care and medical oncology physicians practicing in a non-federal facility. The annual reporting burden is estimated at 904 hours as shown in Table 1. The total burden hours is estimated at 1808 hours over the two year field period of the study. There is no capital, operating or maintenance costs to report.

Table 1—Estimates of Annual Burden Hours
Type of respondents | Survey | Number of respondents | Frequency of response | Average time per response (minutes/hour) | Annual burden hours
Receptionists | Screener | 2,033 | 1 | 5/60 | 169
Family Practice | PCP Instrument | 250 | 1 | 20/60 | 83
General Internists | PCP Instrument | 250 | 1 | 20/60 | 83
OB/GYNs | PCP Instrument | 50 | 1 | 20/60 | 17
Oncologists | Oncology Instrument | 550 | 1 | 20/60 | 183
Receptionists & Administrators | Follow-Up Phone Calls | 1,103 | 4 | 5/60 | 368
Total |  | 4,236 |  |  | 904

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments To OMB: Written comments and/or suggestions regarding the item(s) contained in this notice, especially regarding the estimated public burden and associated response time, should be directed to the Attention: NIH Desk Officer, Office of Management and Budget, at OIRA_submission@omb.eop.gov or by fax to 202-395-6974. To request more information on the proposed project or to obtain a copy of the data collection plans and instruments, contact Arnie Potosky, Ph.D., Task Order Monitor, Applied Research Branch, Division of Cancer Control and Population Sciences, National Cancer Institute, National Institutes of Health, Bethesda, Maryland, 20892-7344, or call non-toll-free number (301)402-3362 or e-mail your request, including your address to: potoskya@mail.nih.gov.

Comments Due Date: Comments regarding this information collection are best assured of having their full effect if received within 30 days of the date of this publication.

Dated: August 23, 2008.
Vivian Horovitch-Kelley,
NCI Project Clearance Liaison Office, National Institutes of Health.

[FR Doc. E8-23443 Filed 10-2-08; 8:45 am]

BILLING CODE 4140-01-P